NUCLEAR REGULATORY COMMISSION

[Docket Nos. 50-275 and 50-323]

Pacific Gas and Electric Co.; Notice of Partial Withdrawal of Application for Amendments to Facility Operating Licenses

The U.S. Nuclear Regulatory Commission (the Commission) has granted the request of Pacific Gas and Electric Company (the licensee) to partially withdraw its September 24, 2002, application for proposed amendment to Facility Operating License Nos. DPR-80 and DPR-82 for the Diablo Canyon Power Plant, Unit Nos. 1 and 2, located in San Luis Obispo County, California.

A portion of the proposed amendments would have revised Technical Specification 3.4.10, “Pressurizer Safety Valves,” to allow pressurizer safety valve (PSV) loop seal temperature to be less than the lower design temperature during plant heatup and cooldown in Mode 3, and in Mode 4 when any reactor coolant system cold leg temperature is greater than the low temperature overpressure protection arming temperature specified in the pressure temperature limits report, provided at least one Class 1 power operated relief valve is available and capable of providing automatic pressure relief. The loop seal revision was intended to allow gradual stabilization of the loop seal temperatures during plant heatups and cooldowns, and avoid having to partially drain the loop seals to establish the minimum design PSV inlet temperature.

The Commission had previously issued a Notice of Consideration of Issuance of Amendment published in the Federal Register on December 24, 2002 (67 FR 78522). However, by letter dated March 9, 2004, the licensee withdrew that portion of the proposed change.

For further details with respect to this action, see the application for amendment dated September 24, 2002, and its supplement dated November 21, 2003, and the licensee's letter dated March 9, 2004, which withdrew a portion of the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 2nd day of July, 2004.
For the Nuclear Regulatory Commission.
Girjia Shukla,
Project Manager, Section 2, Project Directorate IV, Division of Licensing Project Management, Office of Nuclear Reactor Regulation.

[FR Doc. 04-16303 Filed 7-16-04; 8:45 am]

BILLING CODE 7590-01-P